MARINE MAMMAL COMMISSION

Committee Management; Notice of Public Meeting; Advisory Committee on Acoustic Impacts on Marine Mammals

AGENCY: Marine Mammal Commission.

ACTION: Notice of advisory committee meeting.

SUMMARY: The Marine Mammal Commission (Commission) will hold the fourth meeting of its Advisory Committee on Acoustic Impacts on Marine Mammals (Committee) 30 November-2 December 2004 in New Orleans, LA.

DATES: The Committee will meet Tuesday, November 30, 2004, from 9 a.m. to 5 p.m.; Wednesday, December 1, from 8:30 a.m. to 5 p.m.; and Thursday, December 2, from 8:30 a.m. to 5 p.m. This meeting is open to the public. These times and the agenda topics described below are subject to change. Please refer to the Commission's Web site (www.mmc.gov) for the most up-to-date meeting information. The Committee's fifth public meeting is tentatively scheduled for 1-3 March 2005 in the Washington, DC metropolitan area. Further information on that meeting will be published in the Federal Register and posted on the Commission's Web site.

ADDRESSES: The 30 November-2 December meeting will be held at the Bourbon Orleans Hotel, 717 Orleans Street, New Orleans, Louisiana 70116, phone 504-523-2222, fax 504-571-4666, http://www.wyndham.com/hotels/MSYBO/main.wnt.

FOR FURTHER INFORMATION CONTACT: Erin Vos, Sound Project Manager, Marine Mammal Commission, 4340 East-West Hwy., Rm. 905, Bethesda, MD 20814, e-mail: evos@mmc.gov, tel.: (301) 504-0087, fax: (301) 504-0099; or visit the Commission's Web site at www.mmc.gov.

SUPPLEMENTARY INFORMATION: This meeting is to be held pursuant to the directive in the Omnibus Appropriations Act of 2003 (Pub. L. 108-7) that the Commission convene a conference or series of conferences to “share findings, survey acoustic ‘threats’ to marine mammals, and develop means of reducing those threats while maintaining the oceans as a global highway of international commerce.” The meeting agenda includes presentations and discussions related to (1) progress made by the Subcommittee on Synthesis of Current Knowledge; (2) a draft report from the Subcommittee on Management and Mitigation; (3) proposals from the Working Group on Integrity and Balance in Research, Working Group on Animal Welfare Ethics, and Working Group on Research Permitting and Incidental Harassment Authorizations; (4) potential recommendations concerning research priorities, and others developed by the Subcommittees and Working Groups; (5) a report from the International Policy Workshop on sound and marine mammals; (6) how scientific uncertainty and disagreement will be handled in the Committee's final products, (7) the outline of the final Advisory Committee report; and (8) the consideration of appointing a drafting Subcommittee. The agenda also includes two public comment sessions. Guidelines for making public comments, background documents, and the meeting agenda, including the specific times of public comment periods, will be posted on the Commission's Web site prior to the meeting. Written comments may be submitted at the meeting.

Dated: November 10, 2004.
David Cottingham,
Executive Director.

[FR Doc. 04-25439 Filed 11-16-04; 8:45 am]

BILLING CODE 6820-31-M